FEDERAL COMMUNICATIONS COMMISSION

47 CFR Part 73

[DA 02-3456; MB Docket No. 02-282; RM-10615]

Radio Broadcasting Services; Bridgeton, and Pennsauken, NJ

AGENCY: Federal Communications Commission.

ACTION: Proposed rule.

SUMMARY: This document requests comment on a petition for rulemaking filed on behalf of Cohanzick Broadcasting Corp., licensee of Station WSNJ-FM and New Jersey Radio Partners, LLC, assignee of Station WSNJ-FM, requesting the substitution of Channel 300A for Channel 299B at Bridgeton, New Jersey, and reallotment of Channel 300A from Bridgeton to Pennsauken, New Jersey, as the community's first local aural transmission service, and modification of Station WSNJ-FM's authorization to reflect the changes. This petition was originally filed as an amended proposal in MB Docket 02-26 which was terminated. Channel 300A can be allotted at a site 6.1 kilometers (3.8 miles) northeast of Pennsauken at coordinates 40-00-12 NL and 75-01-19 WL.

DATES: Comments must be filed on or before, February 10, 2003, and reply comments on or before February 25, 2003.

ADDRESSES: Secretary, Federal Communications Commission, Washington, DC 20554.

FOR FURTHER INFORMATION CONTACT: Victoria M. McCauley, Media Bureau, (202) 418-2180.

SUPPLEMENTARY INFORMATION: This is a synopsis of the Commission's Notice of Proposed Rule Making, MB Docket No. 02-382, adopted December 13, 2002, and released December 16, 2002. The full text of this Commission decision is available for inspection and copying during normal business hours in the FCC's Reference Information Center at Portals II, CY-A257, 445 Twelfth Street, SW, Washington, DC. This document may also be purchased from the Commission's duplicating contractors, Qualex International, Portals II, 445 12th Street, SW, Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR §§ 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under New Jersey, is amended by adding Pennsauken, Channel 300A and removing Bridgeton, Channel 299B.

Federal Communications Commission.
John A. Karousos,
Assistant Chief, Audio Division, Media Bureau.

[FR Doc. 03-167 Filed 1-3-03; 8:45 am]

BILLING CODE 6712-01-P